INTERNATIONAL BOUNDARY AND WATER COMMISSION

United States and Mexico United States Section; Notice of Availability of a Draft Environmental Assessment and Finding of No Significant Impact for Channel Maintenance Alternatives at Thurman I and II Arroyos in Hatch, NM, Rio Grande Canalization Project

AGENCY: United States Section, International Boundary and Water Commission, United States and Mexico (USIBWC).

ACTION: Notice of Availability of the Draft Environmental Assessment (EA).

SUMMARY: Pursuant to Section 102(2)(c) of the National Environmental Policy Act of 1969; the Council on Environmental Quality Final Regulations; and the United States Section, Operational Procedures for Implementing Section 102 of NEPA, published in the Federal Register September 2, 1981, (46 FR 44083); the United States Section hereby gives notice that the Draft Environmental Assessment and Finding of No Significant Impact for Channel Maintenance Alternatives at Thurman I and II Arroyos in Hatch, NM, Rio Grande Canalization Project is available. An environmental impact statement will not be prepared unless additional information which may affect this decision is brought to our attention within 30-days from the date of this Notice.

Public Comments: USIBWC will consider substantive comments from the public and stakeholders for 30 days after the date of publication of this Notice of Availability in the Federal Register.

Please note all written and email comments received during the comment period will become part of the public record, including any personal information you may provide. Before including your address, phone number, email address, or other personal identifying information in your comment, you should be aware that your entire comment—including your personal identifying information—may be made publicly available at any time. While you can ask us in your comment to withhold your personal identifying information from public review, we cannot guarantee that we will be able to do so. All submissions from organizations or businesses, and from individuals identifying themselves as representatives or officials of organizations or businesses, will be made available for public disclosure in their entirety.

Comments and requests for public hearings should be sent to: Elizabeth Verdecchia, Natural Resources Specialist, USIBWC, 4171 N. Mesa, C-100; El Paso, Texas 79902. Telephone: (915) 832-4701, Fax: (915) 493-2428, email: Elizabeth.Verdecchia@ibwc.gov.

Background: The USIBWC is considering constructing sediment control projects at Thurman I and II, two ephemeral tributaries of the Rio Grande, located within a portion of the Rio Grande Canalization Project protective levee system in Hatch, Doña Ana County, New Mexico. The USIBWC has the statutory authority to maintain the Rio Grande (Act of June 4, 1936, 49 Stat. 1463, Pub. L. 648 and 22 United States Code 277). USIBWC commissioned a study in 2015 that recommended sediment control structures be built on Thurman I and II arroyos, among others, to trap sediment and assist in the maintenance of the Rio Grande.

The purpose is to construct sediment control structures on Thurman I and II arroyos with the following objectives:

(1) Control the inflow of sediment into the Rio Grande mainstem,

(2) Conduct a pilot study for channel maintenance alternatives, and

(3) Be accessible for maintenance and minimize operational costs.

This EA evaluates potential environmental impacts of the No Action Alternative and two alternatives. The Alternative A: No Action—Routine Sediment Excavation does not call for any construction but would require continued routine sediment excavation at the confluence of the arroyos and the Rio Grande. Alternative B: Mesh-Based Sediment Traps proposes to construct mesh and rebar sediment traps where each mesh would trap progressively smaller sediment particles. Alternative C: Sediment Basins is the Preferred Alternative, and calls for the construction of a sediment basin at each arroyo with a concrete end wall. Permits would be required from the U.S. Army Corps of Engineers for dredge and fill of Waters of the United States, per the Clean Water Act Sections 404 and 401.

Potential impacts on natural, cultural, and other resources were evaluated. Mitigation has been proposed for permits for construction. A Finding of No Significant Impact has been prepared for the Preferred Alternative based on a review of the facts and analyses contained in the EA.

FOR FURTHER INFORMATION CONTACT: Elizabeth Verdecchia, Natural Resources Specialist, USIBWC, 4171 N. Mesa, C-100; El Paso, Texas 79902. Telephone: (915) 832-4701, Fax: (915) 493-2428, email: Elizabeth.Verdecchia@ibwc.gov.

Availability: The electronic version of the Draft EA is available from the USIBWC Web page: https://www.ibwc.gov/EMD/EIS_EA_Public_Comment.html.

Dated: October 5, 2017.
Matt Myers,
Chief Legal Counsel.

[FR Doc. 2017-22475 Filed 10-16-17; 8:45 am]

BILLING CODE 7010-01-P